DEPARTMENT OF LABOR

Employment and Training Administration

[TA-W-58,196]

Thomas C. Wilson, Inc.; Long Island City, NY; Notice of Termination of Investigation

Pursuant to Section 221 of the Trade Act of 1974, as amended, an investigation was initiated on October 24, 2005 in response to a petition filed by a company official on behalf of workers at Thomas C. Wilson, Inc., Long Island City, New York.

The petitioner has requested that the petition be withdrawn. Consequently, the investigation has been terminated.

Signed at Washington, DC, this 3rd day of November, 2005.
Richard Church,
Certifying Officer, Division of Trade Adjustment Assistance.

[FR Doc. E5-6325 Filed 11-15-05; 8:45 am]

BILLING CODE 4510-30-P